DEPARTMENT OF COMMERCE

National Oceanic and Atmospheric Administration

[RTID 0648-XD505]

Draft 2023 Marine Mammal Stock Assessment Reports

AGENCY: National Marine Fisheries Service (NMFS), National Oceanic and Atmospheric Administration (NOAA), Commerce.

ACTION: Notice; request for comments and new information.

SUMMARY: NMFS reviewed the Alaska, Atlantic, and Pacific regional marine mammal stock assessment reports (SAR) in accordance with the Marine Mammal Protection Act (MMPA). SARs for marine mammals in the Alaska, Atlantic, and Pacific regions were revised according to new information. NMFS solicits public comments on the draft 2023 SARs. NMFS is also requesting new information for strategic stocks that were not updated in 2023.

DATES: Comments must be received by April 29, 2024.

ADDRESSES: The 2023 draft SARs are available in electronic form via the internet at https://www.fisheries.noaa.gov/national/marine-mammal-protection/draft-marine-mammal-stock-assessment-reports.

Hard copies of the Alaska Regional SARs may be requested from Nancy Young, Alaska Fisheries Science Center; copies of the Atlantic, Gulf of Mexico, and Caribbean Regional SARs may be requested from Elizabeth Josephson, Northeast Fisheries Science Center; and copies of the Pacific Regional SARs may be requested from Jim Carretta, Southwest Fisheries Science Center (see FOR FURTHER INFORMATION CONTACT below).

You may submit comments or new information, identified by NOAA-NMFS-2024-0019, via electronic submission through the Federal e-Rulemaking Portal:

Electronic Submission: Submit all electronic public comments via the Federal e-Rulemaking Portal. Go to https://www.regulations.gov and type NOAA-NMFS-2024-0019 in the Search box (note: copying and pasting the FDMS Docket Number directly from this document may not yield search results). Click on the “Comment” icon, complete the required fields, and enter or attach your comments.

Instructions: NMFS may not consider comments if they are sent by any other method, to any other address or individual, or received after the end of the comment period. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Zachary Schakner, Office of Science and Technology, 301-427-8106, Zachary.Schakner@noaa.gov; Nancy Young, 206-526-4297, Nancy.Young@noaa.gov, regarding Alaska regional stock assessments; Elizabeth Josephson, 508-495-2362, Elizabeth.Josephson@noaa.gov, regarding Atlantic, Gulf of Mexico, and Caribbean regional stock assessments; or Jim Carretta, 858-546-7171, Jim.Carretta@noaa.gov, regarding Pacific regional stock assessments.

SUPPLEMENTARY INFORMATION:

Background

Section 117 of the MMPA (16 U.S.C. 1361 et seq.) requires NMFS and the U.S. Fish and Wildlife Service (USFWS) to prepare stock assessments for each stock of marine mammals occurring in waters under the jurisdiction of the United States, including the U.S. Exclusive Economic Zone (EEZ). These SARs must contain information regarding the distribution and abundance of the stock, population growth rates and trends, estimates of annual human-caused mortality and serious injury (M/SI) from all sources, descriptions of the fisheries with which the stock interacts, and the status of the stock. Initial SARs were completed in 1995.

The MMPA requires NMFS and USFWS to review the SARs at least annually for strategic stocks and stocks for which significant new information is available, and at least once every three years for non-strategic stocks. The term “strategic stock” means a marine mammal stock: (A) for which the level of direct human-caused mortality exceeds the potential biological removal level or PBR (defined by the MMPA as the maximum number of animals, not including natural mortalities, that may be removed from a marine mammal stock while allowing that stock to reach or maintain its optimum sustainable population); (B) which, based on the best available scientific information, is declining and is likely to be listed as a threatened species under the Endangered Species Act (ESA) within the foreseeable future; or (C) which is listed as a threatened species or endangered species under the ESA or is designated as depleted under the MMPA. NMFS and USFWS are required to revise a SAR if the review indicates that the status of the stock has changed or can be more accurately determined.

In order to ensure that marine mammal SARs constitute the best scientific information available, the updated SARs under NMFS' jurisdiction are peer-reviewed within NMFS Science Centers and by members of three regional independent scientific review groups established under the MMPA to independently advise NMFS and the USFWS. As a result of the time involved in the assessment of new scientific information, revision, and peer-review of the SARs, the period covered by the 2023 draft SARs is 2017 through 2021.

NMFS reviewed the status of all marine mammal strategic stocks and considered whether significant new information was available for all other stocks under NMFS' jurisdiction. As a result of this review, NMFS revised or developed new reports for 66 stocks in the Alaska, Atlantic, and Pacific regions to incorporate new information. The 2023 revisions to the SARs consist primarily of updated or revised human-caused mortality and serious injury (M/SI) estimates and updated abundance estimates, the proposed designation of two new stocks: Sato's beaked whale and the Central Oregon harbor porpoise, and proposed Pacific Islands stock name changes.

NMFS solicits public comments on the draft 2023 SARs. To ensure NMFS is aware of new information relevant to all strategic stocks, NMFS also requests new information for strategic stocks that were not updated in 2023. Specifically, new relevant information could include peer-reviewed information on human-caused M/SI, fishery interactions, abundance, distribution, population structure, and other information on emerging concerns for strategic stocks that could be incorporated into the SARs.

Alaska Reports

NMFS reviewed new information for 24 existing stocks (including all of the strategic stocks) in the Alaska Region for the 2023 SAR cycle and updated information or developed new reports for five stocks contained in five SARs under NMFS' jurisdiction: three strategic stocks (Western stock of Steller sea lions, Eastern North Pacific stock of North Pacific right whales, and Western Arctic stock of bowhead whales) and two non-strategic stocks (Eastern stock of Steller sea lions and Sato's beaked whales stock). Information on the remaining Alaska region stocks can be found in the final 2022 SARs (Young et al. 2023).

A list of the new or revised SARs in 2023 for the Alaska region is presented in table 1, followed by a non-exhaustive summary of the more notable issues or revisions for particular stocks within the Alaska region.

Table 1—List of Marine Mammal Stocks in the Alaska Region Revised in 2023
Strategic stocks | Non-strategic stocks
• Steller sea lion, Western * | • Sato's beaked whale.**
• North Pacific right whale, Eastern North Pacific | • Steller sea lion, Eastern.*
• Bowhead whale, Western Arctic.*
* Includes updated abundance estimates.
** Denotes a new stock.

Sato's Beaked Whale

A new SAR is proposed for a newly described species, Sato's beaked whale (Yamada et al. 2019), which inhabits the western and central North Pacific. The Sato's beaked whale was identified as a new species in the northern Pacific Ocean based on morphometric and genetics data of a previously undescribed species (Brownell and Kasuya 2021, Fedutin et al. 2020, Yamada et al. 2019). Current information about its distribution indicates that it occurs from Japanese waters across the northern Pacific to at least the Alaskan Peninsula. The newly identified species did not yet have a stock designation. NMFS followed the process outlined in its procedural directive 02-204-03: Reviewing and Designating Stocks and Issuing Stock Assessment Reports under the Marine Mammal Protection Act (NMFS 2019) and determined that it is unknown whether the species contains multiple demographically independent populations. Therefore, NMFS proposes designating Sato's beaked whale species as a single stock. Estimates of abundance are not available for this stock, and no human-caused MS/I of Sato's beaked whales was reported between 2017 and 2021. This stock is not strategic.

Atlantic Reports

In 2023, NMFS reviewed all stocks in the Atlantic region under NMFS' jurisdiction (including the Atlantic Ocean, Gulf of Mexico, and U.S. territories in the Caribbean) for new information. Thirty-one stocks from the Western North Atlantic were revised (table 2), primarily with updated abundance estimates based on the 2021 Atlantic Marine Assessment Program for Protected Species large vessel surveys, and some were also updated with recent bycatch estimates. One stock changed in status to “strategic,” the Western North Atlantic (WNA) short-finned pilot whale. This particular stock has oscillated between strategic and non-strategic over the years, depending on the latest abundance and bycatch estimates.

A list of the new or revised SARs in 2023 for the Atlantic region is presented in table 2, followed by a non-exhaustive summary of the more notable issues or revisions in the Atlantic region. Information on the remaining Atlantic region stocks can be found in the final 2022 SARs (Hayes et al. 2023).

Table 2—List of Marine Mammal SARs in the Atlantic Region Revised in 2023
Strategic stocks | Non-strategic stocks
• North Atlantic right whale * • Gulf of Mexico common bottlenose dolphin, Barataria Bay Estuarine System • Short-finned pilot whale, Western North Atlantic * • Fin whale, Western North Atlantic • Sei whale, Nova Scotia • Sperm whale, North Atlantic * | • Atlantic spotted dolphin, Western North Atlantic.* • Clymene dolphin, Western North Atlantic.* • Common bottlenose dolphin, Western North Atlantic Offshore.* • Dwarf sperm whale, Western North Atlantic.* • False killer whale, Western North Atlantic.* • Fraser's dolphin, Western North Atlantic. • Melon-headed whale, Western North Atlantic. • Pantropical spotted dolphin, Western North Atlantic.* • Pygmy killer whale, Western North Atlantic.
| • Pygmy sperm whale, Western North Atlantic.*
| • Rough-toothed dolphin, Western North Atlantic.
| • Spinner dolphin, Western North Atlantic.*
| • Harbor porpoise, Gulf of Maine/Bay of Fundy.*
| • Common minke whale, Canadian East Coast.
| • Cuvier's beaked whale, Western North Atlantic.*
| • Blainville's beaked whale, Western North Atlantic.*
| • Gervais' beaked whale, Western North Atlantic.*
| • Sowerby's beaked whale, Western North Atlantic.*
| • True's beaked whale, Western North Atlantic.*
| • Risso's dolphin, Western North Atlantic.*
| • Long-finned pilot whale, Western North Atlantic.
| • Atlantic white-sided dolphin, Western North Atlantic.
| • Common dolphin, Western North Atlantic.*
| • Striped dolphin, Western North Atlantic.*
| • Gray seal, Western North Atlantic.*
* Includes updated abundance estimates.

North Atlantic Right Whale, Western North Atlantic

The new abundance estimate calculated for the western North Atlantic right whale stock is 340 (95% CI: 333-348) individuals as of December 2021. This updated estimate is based on a published state-space model of the sighting histories of individual whales identified using photo-identification techniques (Pace et al. 2017, Pace 2021). A more recent estimate is available in Linden (2023), though this is not included in the draft 2023 SAR being released for public comment as it was not available at the time of drafting and for review by the Atlantic Scientific Review Group. The species' recovery continues to be inhibited by a low reproductive rate and the impacts of the ongoing Unusual Mortality Event declared in 2017 (NMFS 2023), which, for the covered time period (2017-2021), includes 98 dead, seriously injured, or sublethally injured or ill whales (i.e., morbidity cases, which are now included in the SAR), primarily due to vessel strikes and entanglements in fishing gear.

Humpback Whale, Gulf of Maine

In 2023, NMFS is not revising SAR for the Gulf of Maine stock of humpback whales. Since the last revision of this SAR in 2019, NMFS has been reviewing and considering the implications of recent information on stock structure of humpback whales in the North Atlantic. This includes the 2016 global Status Review of humpback whales that led to the revised ESA listing of the species, based on identification of distinct population segments (DPS) (Bettridge et al. 2015, NOAA 2016a), as well as ongoing work by the International Whaling Commission, Scientific Committee, and Sub-committee on Northern Hemisphere whale stocks. Given this recent and forthcoming information, NMFS is evaluating the stock structure of North Atlantic humpback whales under the MMPA following the process laid out in its procedural directive 02-204-03: Reviewing and Designating Stocks and Issuing Stock Assessment Reports under the Marine Mammal Protection Act (NMFS 2019). A draft, updated SAR will be published once NMFS completes this process.

Gulf of Mexico Common Bottlenose Dolphin, Barataria Bay Estuarine System Stock

In 2023, NMFS revised the SAR for the Barataria Bay Estuarine System (BBES) stock of common bottlenose dolphins as recommended by the Atlantic Scientific Review Group to incorporate recent publications regarding health assessment data and projected outcomes for the proposed mid-Barataria sediment diversion (MBSD) project. Recent health assessment data indicate disease conditions have persisted and worsened in Barataria Bay dolphins presumably exposed to oil from the Deepwater Horizon (DWH) oil spill (DeGuise et al. 2021; Smith et al. 2022; Schwacke et al. 2022), and it is suggested this population is at a minimum point in its recovery trajectory (Schwacke et al. 2022). In addition, results of modeling work by Thomas et al. (2022) predict there will be greater declines in population size resulting from the MBSD than those caused by the DWH oil spill, which could potentially result in a decline and functional extinction of the BBES stock of common bottlenose dolphins.¹

¹ On February 9, 2018, Congress passed the Bipartisan Budget Act of 2018 (Budget Act), Public Law 115-123, which included a requirement that the Secretary of Commerce, as delegated to the Assistant Administrator of the National Marine Fisheries Service, issue a waiver of the Marine Mammal Protection Act moratorium and prohibitions for three projects included in the 2017 Louisiana Comprehensive Master Plan for a Sustainable Coast. The Mid-Barataria Sediment Diversion was identified as one of those projects. As required, NOAA Fisheries issued the waiver on March 15, 2018. More information on the waiver can be found at https://www.fisheries.noaa.gov/action/marine-mammal-protection-act-waiver-select-louisiana-coastal-master-plan-projects.

Pacific Reports

In 2023, NMFS reviewed all 85 stocks in the Pacific region (waters along the U.S. West Coast, within waters surrounding the main and Northwestern Hawaiian Islands, and within waters surrounding U.S. territories in the Western Pacific) for new information and revised SARs for thirty stocks (8 strategic and 22 non-strategic). A list of revised SARs in 2023 for the Pacific region is presented in table 3, followed by a non-exhaustive summary of the more notable issues or revisions in the Pacific region. Information on the remaining Pacific region stocks can be found in the final 2022 SARs (Carretta et al. 2023). Following the development of the draft 2023 SARs, NMFS published new population information for the Eastern North Pacific (ENP) gray whale. We plan to revise the ENP gray whale SAR in the 2024 cycle to incorporate the updated information.

Table 3—List of Marine Mammal SARs in the Pacific Region Revised in 2023
Strategic stocks | Non-strategic stocks
• Monk seal, Hawai'i * | • Harbor seal, Washington Northern Inland Waters.*
• Killer whale, Eastern North Pacific Southern Resident * | • Harbor seal, Southern Puget Sound.*
• Sperm whale, CA/OR/WA * | • Harbor seal, Hood Canal.*
• Blue whale, Eastern North Pacific | • Harbor porpoise, Northern CA/Southern OR.*
• Fin whale, CA/OR/WA | • Harbor porpoise, Central Oregon.**
• Sei whale, Eastern North Pacific * | • Harbor porpoise, Northern OR/Washington Coast.*
• False killer whale, Hawai'i Pelagic * | • Minke whale, CA/OR/WA.
• False killer whale, Main Hawaiian * Islands Insular | • Rough-toothed dolphin, Hawai'i.*
| • Risso's dolphin, Hawai'i.*
| • Common bottlenose dolphin, Hawai'i Pelagic.*
| • Common bottlenose dolphin, Kaua'i and Ni'ihau.*
| • Common bottlenose dolphin, O'ahu.*
| • Common bottlenose dolphin, Maui Nui.*
| • Common bottlenose dolphin, Hawai'i Island.*
| • Pantropical spotted dolphin, Hawai'i Pelagic.*
| • Pantropical spotted dolphin, O'ahu.
| • Pantropical Spotted dolphin, Maui Nui.
| • Pantropical spotted dolphin, Hawai'i Island.
| • Striped dolphin, Hawai'i Pelagic.*
| • False killer whale, Northwest Hawaiian Islands.
| • Short-finned pilot whale, Hawai'i.*
| • Bryde's whale, Hawai'i.*
* Includes updated abundance estimates.
** Denotes a new stock.

West Coast Harbor Porpoise Stocks

The Northern California-Southern Oregon harbor porpoise stock is proposed to be split into two stocks: the Northern California-Southern Oregon and Central Oregon harbor porpoise stocks. In proposing this revised stock structure, NMFS followed the process outlined in its procedural directive 02-204-03: Reviewing and Designating Stocks and Issuing Stock Assessment Reports under the Marine Mammal Protection Act (NMFS 2019). Genetic evidence (Morin et al. 2021) supported delineation of two demographically independent populations (DIPs) within waters of Northern California and Southern Oregon. NMFS evaluated the conservation and management benefits and risks associated with managing the harbor porpoise in this region as two stocks, and determined there was greater potential conservation benefit under the MMPA if managed as two stocks rather than a single stock. Thus, the Northern California-Southern Oregon harbor porpoise stock is proposed to be split into two stocks corresponding with the DIPs identified in Morin et al. (2021). The draft SARs present abundance estimates for the proposed Northern California-Southern Oregon and Central Oregon harbor porpoise stocks, derived from aerial surveys.

Pacific Islands Stock Name Changes

As an ongoing effort to reflect indigenous knowledge, NMFS is proposing to rename Pacific Island marine mammal stocks to align with the original Hawaiian names of various islands and places where the stocks reside. For the 2023 SAR cycle, NMFS proposes to change the names of stocks with ‘4-Islands’ in the name to ‘Maui Nui.’ Maui Nui includes the islands of Moloka'i, Lāna'i, Maui, and Kaho'olawe. In the future, NMFS plans to propose additional changes to include transitioning from the English name for some of the islands and atolls in the northwestern Hawaiian Islands to the original Hawaiian name.

Erratum: Response to Public Comment for 2022 SARs

We note that due to a technical error in processing, we did not include in the list of significant comments on the draft 2022 SARs a joint comment submitted by Natural Resources Defense Council, Endangered Habitats League, Turtle Island Restoration Network, American Cetacean Society-Oregon Chapter, Cape Perpetua Collaborative, Center for Biological Diversity, Ocean Defenders Alliance, Defenders of Wildlife, Whale and Dolphin Conservation, and Oceana. However, the comment was addressed in a response published elsewhere in the 2022 Final Stock Assessment Reports Federal Register notice (comment 17— https://www.federalregister.gov/documents/2023/08/11/2023-17219/final-2022-marine-mammal-stock-assessment-reports).

References

Brownell, R.L., Jr., and T. Kasuya. 2021. Sato's beaked whale: A new cetacean species discovered around Japan. Mar. Mammal Sci. 37(2): 768-771. https://doi.org/10.1111/mms.12810.

Carretta, J.V., E.M. Oleson, K.A. Forney, M.M. Muto, D.W. Weller, A.R. Lang, J. Baker, B. Hanson, A.J. Orr, J. Barlow, J.E. Moore, and R.L. Brownell Jr. 2023. U.S. Pacific marine mammal stock assessments: 2021. U.S. Department of Commerce, NOAA Technical Memorandum NMFS-SWFSC-663. https://doi.org/10.25923/246k-7589.

De Guise, S., M. Levin, L. Jasperse, J. Herrman, R.S. Wells, T. Rowles and L. Schwacke. 2021. Long-term immunological alterations in bottlenose dolphin a decade after the Deepwater Horizon oil spill in the northern Gulf of Mexico: Potential for multigenerational effects. Environ. Toxicol. Chem. 40(5): 1308-1321.

Fedutin, I.D., I.G. Meschersky, O.A. Filatova, O.V. Titova, V., I.G. Bobyr, A.M. Burdin, and E. Hoyt. 2020. Records of a new cetacean species of the genus Berardius from Russian waters. Russ. J. Mar. Biol. 46:199-206. https://doi.org/10.1134/S1063074020030050.

Hayes, S.A., Josephson, E., Maze-Foley, K., Rosel, P.E., Byrd, B., Chavez-Rosales, S., Cole, T.V., Garrison, L.P., Hatch, J., Henry, A. and Horstman, S.C., 2023. U.S. Atlantic and Gulf of Mexico marine mammal stock assessments—2021. NOAA Technical Memomorandum NMFS NE. 249.

Morin PA, Forester BR, Forney KA, Crossman CA, Hancock-Hanser B, Robertson KM, Barrett-Lennard LG, Baird RW, Calambokidis J, Gearin P, Hanson MB, Schumacher C, Harkins T, Fontaine M, Taylor BL, Parsons K. 2021. Population structure in a continuously distributed coastal marine species, the harbor porpoise, based on microhaplotypes derived from poor quality samples. Molecular Ecology 2021;00:1-20. https://doi.org/10.1111/mec.15827.

NMFS (National Marine Fisheries Service). 2019. Reviewing and Designating Stocks and Issuing Stock Assessment Reports under the Marine Mammal Protection Act. NMFS Procedure 02-203-04. Available at: https://www.fisheries.noaa.gov/national/laws-and-policies/policy-directive-system.

Pace, R.M. 2021. Revisions and further evaluations of the right whale abundance model: improvements for hypothesis testing. U.S. Department of Commerce, NOAA Technical Memorandum NMFS-NE 269. 54 pp.

Pace, R.M., III, P.J. Corkeron and S.D. Kraus. 2017. State-space mark-recapture estimates reveal a recent decline in abundance of North Atlantic right whales. Ecol. and Evol. 7:8730-8741. DOI: 10.1002/ece3.3406.

Schwacke, L.H., T.A. Marques, L. Thomas, C.G. Booth, B.C. Balmer, A. Barratclough, K. Colegrove, S. De Guise, L.P. Garrison, F.M. Gomez, J.S. Morey, K.D. Mullin, B.M. Quigley, P.E. Rosel, T.K. Rowles, R. Takeshita, F.I. Townsend, T.R. Speakman, R.S. Wells, E.S. Zolman, and C.R. Smith. 2022. Modeling population effects of the Deepwater Horizon oil spill on a long-lived species. Conserv. Biol. 36(4):e13878. 13 pp.

Smith, C.R., T.K. Rowles, F.M. Gomez, M. Ivančić, K.M. Colegrove, R. Takeshita, F.I. Townsend, E.S. Zolman, J.S. Morey, V. Cendejas, J.M. Meegan, W. Musser, T.R. Speakman, A. Barratclough, R.S. Wells and L.H. Schwacke. 2022. Poor pulmonary health in Barataria Bay dolphins in the eight years following the Deepwater Horizon oil spill. Front. Mar. Sci. 9:975006.

Thomas, L., T.A. Marques, C. Booth, R. Takeshita, and L.H. Schwacke. 2022. Model predicts catastrophic decline of common bottlenose dolphin (Tursiops truncatus) population under proposed land restoration project in Barataria Bay, Louisiana, USA. Mar. Mamm. Sci. 38(4):1654-1664.

Yamada T. K., S. Kitamura, S. Abe, Y. Tajima A. Matsuda, J.G. Mead, and T.F. Matsuishi. 2019. Description of a new species of beaked whale (Berardius) found in the North Pacific. Sci. Rep. 9:1-14. https://doi.org/10.1038/s41598-019-46703-w.

Young, N.C., Brower, A.A., Muto, M.M., Freed, J.C., Angliss, R.P., Friday, N.A., Boveng, P.L., Brost, B.M., Cameron, M.F., Crance, J.L., Dahle, S.P., Fadely, B.S., Ferguson, M.C., Goetz, K.T., London, J.M., Oleson, E.M., Ream, R.R., Richmond, E.L., Shelden, K.E.W., Sweeney, K.L., Towell, R.G., Wade, P.R., Waite, J.M., and Zerbini, A.N. 2023. Alaska marine mammal stock assessments, 2022. U.S. Department of Commerce, NOAA Technical Memorandum NMFS-AFSC-474, 316 p.

Dated: January 22, 2024.
Evan Howell,
Director, Office of Science and Technology, National Marine Fisheries Service.

[FR Doc. 2024-01653 Filed 1-26-24; 8:45 am]

BILLING CODE 3510-22-P